DEPARTMENT OF LABOR

Employment and Training Administration

[TA-W-60,843]

Clorox Services Company a Subsidiary of the Clorox Company, Oakland, CA; Notice of Negative Determination on Reconsideration

On June 4, 2007, the Department issued an Affirmative Determination Regarding Application for Reconsideration for the workers and former workers of the subject firm. The notice was published in the Federal Register on June 14, 2007 (72 FR 32915-32916).

The petition for the workers of Clorox Services Company, a subsidiary of the Clorox Company, Oakland, California engaged in information technology services, including application development and maintenance, data center operations, and network and end-user support was denied because the petitioning workers did not produce an article within the meaning of section 222 of the Act.

The petitioners filed a request for reconsideration in which they contend that the Department erred in its interpretation of work performed at the subject facility and convey that workers of the subject firm supported manufacturing of goods at affiliated incorporated subsidiaries of the Clorox Company.

The workers of the subject firm and a company official were contacted for clarification in regard to the nature of the work performed at the subject facility. The investigation on reconsideration revealed that workers of the subject firm supported production of various household and specialty articles at various subsidiaries of the Clorox Company on a company-wide scale.

The Department conducted an additional investigation to determine whether workers can be considered eligible for TAA as directly-impacted workers in support of production of household and specialty products, such as home cleaning, auto care, professional products, cat litter, dressings, sauces and seasonings.

The group eligibility requirements for directly-impacted (primary) workers under section 222(a) the Trade Act of 1974, as amended, can be satisfied in either of two ways:

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

The investigation revealed that workers of the subject firm provided technical support to the entire Clorox Company and all its domestic production facilities. The investigation of the U.S. production and sales of the Clorox Company, USA, revealed that criteria (I.B) and (II.B) were not met. According to the information provided by the company official, company-wide sales and production of household and specialty products, such as home cleaning, auto care, professional products, cat litter, dressings, sauces and seasonings did not decline from 2005 to 2006 and there was no shift in production of household and specialty products to a foreign source during the relevant time period.

Conclusion

After reconsideration, I affirm the original notice of negative determination of eligibility to apply for worker adjustment assistance for workers and former workers of Clorox Service Company, a subsidiary of the Clorox Company, Oakland, California.

Signed at Washington, DC, this 14th day of August, 2007.
Elliott S. Kushner,
Certifying Officer, Division of Trade Adjustment Assistance.

[FR Doc. E7-16888 Filed 8-24-07; 8:45 am]

BILLING CODE 4510-FN-P